DEPARTMENT OF JUSTICE

Antitrust Division

Notice Pursuant to the National Cooperative Research and Production Act of 1993—Testing of Methods for Measuring Hydrocarbon Dew Points in Natural Gas Streams

Notice is hereby given that, on October 30, 2007, pursuant to Section 6(a) of the National Cooperative Research and Production Act of 1993, 15 U.S.C. 4301, et seq.(``the Act''), SwRI: Testing of Methods for Measuring Hydrocarbon Dew Point in Natural Gas Streams has filed written notifications simultaneously with the Attorney General and the Federal Trade Commission disclosing changes in its membership, nature and objective. The notifications were filed for the purpose of extending the Act's provisions limiting the recovery of antitrust plaintiffs to actual damages under specified circumstances. Specifically, Union Gas Limited, Chatham, Ontario, Canada has been added as a party to this venture. The changes in its nature and objectives are: The period of performance has been extended to December 27, 2007; the hydrocarbon dew point analyzers will be tested to determine their ability to accurately measure hydrocarbon dew points when water vapor or methanol is present in the gas stream; and the recovery time of the instruments after being cooled to hydrocarbon dew point temperatures during operation will also be verified. These tests will provide new information on analyzer performance under adverse conditions.

No other changes have been made in either the membership or planned activity of the group research project. Membership in this group research project remains open, and SwRI intends to file additional written notifications disclosing all changes in membership.

On March 20, 2007, SwRI: Testing of Methods for Measuring Hydrocarbon Dew Point in Natural Gas Streams filed its original notification pursuant to Section 6(a) of the Act. The Department of Justice published a notice in the Federal Register pursuant to Section 6(b) of the Act on April 16, 2007 (72 FR 19023).

Patricia A. Brink,
Deputy Director of Operations, Antitrust Division.

[FR Doc. 07-6121 Filed 12-19-07; 8:45 am]

BILLING CODE 4410-11-M